DEPARTMENT OF COMMERCE

International Trade Administration

[A-570-084, C-570-085]

Certain Quartz Surface Products From the People's Republic of China: Antidumping and Countervailing Duty Orders

AGENCY: Enforcement and Compliance, International Trade Administration, Department of Commerce.

SUMMARY: Based on affirmative final determinations by the Department of Commerce (Commerce) and the International Trade Commission (ITC), Commerce is issuing the antidumping duty (AD) and countervailing duty (CVD) orders on certain quartz surface products (quartz surface products) from the People's Republic of China (China).

DATES: Applicable July 11, 2019.

FOR FURTHER INFORMATION CONTACT: Whitley Herndon at (202) 482-6274 (AD) and Joshua Tucker at (202) 482-2044 (CVD), AD/CVD Operations, Office II, Enforcement and Compliance, International Trade Administration, U.S. Department of Commerce, 1401 Constitution Avenue NW, Washington, DC 20230.

SUPPLEMENTARY INFORMATION:

Background

In accordance with sections 705(d) and 735(d) of the Tariff Act of 1930, as amended (the Act), on May 23, 2019, Commerce published its affirmative final determination of sales at less-than-fair-value (LTFV) ¹ and its affirmative final determination that countervailable subsidies are being provided to producers and exporters of quartz surface products from China.²

¹ See Certain Quartz Surface Products from the People's Republic of China: Final Affirmative Determination of Sales at Less Than Fair Value, and Final Affirmative Determination of Critical Circumstances, 84 FR 23767 (May 23, 2019) (LTFV Final Determination).

² See Certain Quartz Surface Products from the People's Republic of China: Final Affirmative Countervailing Duty Determination, and Final Affirmative Determination of Critical Circumstances, 84 FR 23760 (May 23, 2019) (CVD Final Determination).

On June 28, 2019, the ITC notified Commerce of its final affirmative determination that an industry in the United States is materially injured by reason of LTFV imports and subsidized imports of quartz surface products from China, within the meaning of section 705(b)(1)(A)(i) and 735(b)(1)(A)(i) of the Act.³ On July 5, 2019, the ITC published its final determination in the Federal Register.⁴ Further, the ITC determined that critical circumstances do not exist with respect to LTFV imports and subsidized imports of quartz surface products from China.⁵

³ See ITC June 28, 2019 letter regarding notification of final determination (ITC Notification).

⁴ See Certain Quartz Surface Products from China; Determinations, 84 FR 32216 (July 5, 2019) (ITC Final Determination).

⁵ See ITC Final Determination at footnote 2 and USITC Publication 4913 (June 2019).

Scope of the Orders

The products covered by these orders are quartz surface products from China. For a complete description of the scope of the orders, see Appendix I to this notice.

AD Order

On June 28, 2019, in accordance with section 735(d) of the Act, the ITC notified Commerce of its final determination that an industry in the United States is materially injured within the meaning of section 735(b)(1)(A)(i) of the Act by reason of imports of quartz surface products from China that are sold in the United States at LTFV.⁶ Therefore, in accordance with section 735(c)(2) of the Act, we are issuing this AD order. Because the ITC determined that imports of quartz surface products from China are materially injuring a U.S. industry, unliquidated entries of such merchandise from China entered, or withdrawn from warehouse, for consumption are subject to the assessment of antidumping duties, as described below.

⁶ See ITC Notification.

As a result of the ITC's final determination, in accordance with section 736(a)(1) of the Act, Commerce will direct U.S. Customs and Border Protection (CBP) to assess, upon further instruction by Commerce, antidumping duties equal to the amount by which the normal value of the merchandise exceeds the export price or constructed export price of the subject merchandise, for all relevant entries of quartz surface products from China. Antidumping duties will be assessed on unliquidated entries of quartz surface products from China entered, or withdrawn from warehouse, for consumption on or after November 20, 2018, the date of publication of the LTFV Preliminary Determination,⁷ but will not be assessed on entries occurring after the expiration of the provisional measures period and before publication of the ITC's final affirmative injury determination as further described below.

⁷ See Certain Quartz Surface Products from the People's Republic of China: Preliminary Determination of Sales at Less Than Fair Value and Postponement of Final Determination, 83 FR 58540 (November 20, 2018) (LTFV Preliminary Determination).

Suspension of Liquidation—AD

In accordance with section 736 of the Act, we will instruct CBP to reinstitute suspension of liquidation on all relevant entries of quartz surface products from China, effective on the date of publication of the ITC Final Determination in the Federal Register, and to assess, upon further instruction by Commerce pursuant to section 736(a)(1) of the Act, antidumping duties for each entry of the subject merchandise equal to the amount that normal value exceeds export price or constructed export price for the subject merchandise. These instructions suspending liquidation will remain in effect until further notice. For each producer and exporter combination, Commerce will also instruct CBP to require cash deposits for estimated antidumping duties equal to the cash deposit rates listed below.

Accordingly, effective on the date of publication of the ITC Final Determination, CBP will require, at the same time as an importer of record would normally deposit estimated duties on the subject merchandise, a cash deposit based on the rates listed below.⁸ As stated in the LTFV Final Determination, Commerce made certain adjustments for export subsidies from the CVD Final Determination to the estimated weighted-average dumping margin to determine each of the cash deposit rates.

⁸ See section 736(a)(3) of the Act.

⁹ The following companies are part of the China-wide entity: Foshan Hero Stone Co., Ltd., Foshan Quartz Stone Imp & Exp Co., Ltd., and Hero Stone Co., Ltd. (collectively, Hero Stone); Guangzhou Hercules Quartz Stone Co., Ltd. (Hercules); and Vemy Quartz Surface Co., Ltd.

Exporter | Producer | Estimated weighted- average dumping margin (percent) | Cash deposit rate (adjusted for subsidy offset) (percent)
Foshan Yixin Stone Co., Ltd | Foshan Yixin Stone Co., Ltd | 333.09 | 295.02
Foshan Yixin Stone Co., Ltd | QingYuan Yue Feng Decoration Material Co., Ltd | 333.09 | 295.02
Suzhou Colorquartzstone New Material Co., Ltd., Shanghai Meiyang Stone Co., Ltd., CQ International Limited | Suzhou Colorquartzstone New Material Co., Ltd. and Shanghai Meiyang Stone Co., Ltd | 265.81 | 255.27
Non-Individually Examined Exporters Receiving Separate Rates (see Appendix II) | Producers Supplying the Non-Individually-Examined Exporters Receiving Separate Rates (see Appendix II) | 297.40 | 259.33
China-Wide Entity ⁹ | China-Wide Entity | 336.69 | 326.15

Provisional Measures—AD

Section 733(d) of the Act states that suspension of liquidation instructions issued pursuant to an affirmative preliminary determination may not remain in effect for more than four months, except where exporters representing a significant proportion of exports of the subject merchandise request Commerce to extend that four-month period to no more than six months. At the request of Hercules and Hero Stone, exporters that account for a significant proportion of quartz surface products from China, we extended the four-month period to six months.¹⁰ Commerce published its LTFV Preliminary Determination on November 20, 2018. Therefore, the extended period, beginning on the date of publication of the LTFV Preliminary Determination, ended on May 18, 2019. Pursuant to section 737(b) of the Act, the collection of cash deposits at the rate listed above will begin on July 5, 2019, the date of publication of the ITC Final Determination.

¹⁰ See LTFV Preliminary Determination, 84 FR at 58542.

Therefore, in accordance with section 733(d) of the Act, Commerce instructed CBP to terminate the suspension of liquidation and to liquidate, without regard to antidumping duties, unliquidated entries of quartz surface products from China entered, or withdrawn from warehouse, for consumption after May 18, 2019, the date on which the provisional measures expired, through July 4, 2019, the day preceding the date of publication of the ITC Final Determinations in the Federal Register. Suspension of liquidation will resume on July 5, 2019, the date of publication of the ITC Final Determination in the Federal Register.

Critical Circumstances—AD

With regard to the ITC's negative critical circumstances determination on LTFV imports of quartz surface products from China, we will instruct CBP to lift suspension and to refund all cash deposits made to secure the payment of estimated antidumping duties with respect to entries of quartz surface products from China entered, or withdrawn from warehouse, for consumption on or after August 22, 2018 (i.e., 90 days prior to the date of publication of the LTFV Preliminary Determination), but before November 20, 2018 (i.e., the date of publication of the LTFV Preliminary Determination).

CVD Order

On June 28, 2019, in accordance with section 705(d) of the Act, the ITC notified Commerce of its final determination that an industry in the United States is materially injured within the meaning of section 705(b)(1)(A)(i) of the Act by reason of subsidized imports of quartz surface products from China.¹¹ Therefore, in accordance with section 705(c)(2) of the Act, we are issuing this CVD order. Because the ITC determined that imports of quartz surface products from China are materially injuring a U.S. industry, unliquidated entries of such merchandise from China entered, or withdrawn from warehouse, for consumption are subject to the assessment of countervailing duties, as described below.

¹¹ See ITC Notification.

As a result of the ITC's final determination, in accordance with section 706(a)(1) of the Act, Commerce will direct CBP to assess, upon further instruction by Commerce, countervailing duties on all relevant entries of quartz surface products from China. Countervailing duties will be assessed on unliquidated entries of quartz surface products from China entered, or withdrawn from warehouse, for consumption on or after September 21, 2018, the date of publication of the CVD Preliminary Determination,¹² but will not be assessed on entries occurring after the expiration of the provisional measures period and before publication of the ITC's final affirmative injury determination as further described below.

¹² See Certain Quartz Surface Products from the People's Republic of China: Preliminary Affirmative Countervailing Duty Determination, and Alignment of Final Determination with Final Antidumping Duty Determination, 83 FR 47881 (September 21, 2018) (CVD Preliminary Determination).

Suspension of Liquidation—CVD

In accordance with section 706 of the Act, we will instruct CBP to reinstitute suspension of liquidation on all relevant entries of quartz surface products from China, effective on the date of publication of the ITC's notice of final affirmative injury determination in the Federal Register, and to assess, upon further instruction by Commerce, pursuant to section 706(a)(1) of the Act, countervailing duties for each entry of the subject merchandise in an amount based on the net countervailable subsidy rate for the subject merchandise. These instructions suspending liquidation will remain in effect until further notice. Commerce will also instruct CBP to require cash deposits equal to the amounts as indicated below. Accordingly, effective on the date of publication of the ITC's final affirmative injury determination, CBP will require, at the same time as importers would normally deposit estimated duties on the subject merchandise, a cash deposit for each entry of subject merchandise equal to the subsidy rates listed below.¹³ The all-others rate applies to all producers or exporters not specifically listed below, as appropriate.

¹³ See section 706(a)(3) of the Act.

¹⁴ Commerce has found the following companies to be cross-owned with Foshan Hero Stone Co., Ltd.: Mingwei Quartz New Environmental Protection Materials Co., Ltd.; and Foshan Quartz Stone Imp & Exp Co., Ltd.

Company | Subsidy rate (percent)
Foshan Hero Stone Co., Ltd ¹⁴ | 190.99
Fasa Industrial Corporation Limited | 190.99
Foshan Yixin Stone Co., Ltd | 45.32
Foshan Nanhai Julang Quartz Co | 190.99
Qinguan Yuefeng Decoration Material Co | 190.99
All Others | 45.32

Provisional Measures—CVD

Section 703(d) of the Act states that suspension of liquidation instructions issued pursuant to an affirmative preliminary determination may not remain in effect for more than four months. Commerce published its CVD Preliminary Determination on September 21, 2018. Therefore, the provisional measures period, beginning on the date of publication of the CVD Preliminary Determination, ended on January 18, 2019. Pursuant to section 707(b) of the Act, the collection of cash deposits at the rate listed above will begin on the date of publication of the ITC's final injury determination.

Therefore, in accordance with section 703(d) of the Act, Commerce instructed CBP to terminate the suspension of liquidation and to liquidate, without regard to countervailing duties, unliquidated entries of quartz surface products from China entered, or withdrawn from warehouse, for consumption after January 18, 2019, the date on which the provisional measures expired, through the day preceding the date of publication of the ITC's final injury determinations in the Federal Register. Suspension of liquidation will resume on the date of publication of the ITC's final determination in the Federal Register.

Critical Circumstances—CVD

With regard to the ITC's negative critical circumstances determination on imports of quartz surface products from China, we will instruct CBP to lift suspension and to refund any cash deposits made to secure the payment of estimated countervailing duties with respect to entries of quartz surface products from China entered, or withdrawn from warehouse, for consumption on or after June 23, 2018 (i.e., 90 days prior to the date of publication of the CVD Preliminary Determination), but before September 21, 2018 (i.e., the date of publication of the CVD Preliminary Determination).

Notifications to Interested Parties

This notice constitutes the AD and CVD orders with respect to quartz surface products from China pursuant to sections 706(a) and 736(a) of the Act. Interested parties can find a list of orders currently in effect at http://enforcement.trade.gov/stats/iastats1.html.

These orders are published in accordance with sections 706(a) and 736(a) of the Act and 19 CFR 351.211(b).

Dated: July 8, 2019.
Jeffrey I. Kessler,
Assistant Secretary for Enforcement and Compliance.

Appendix I

Scope of the Orders

The scope of the orders covers certain quartz surface products.¹⁵ Quartz surface products consist of slabs and other surfaces created from a mixture of materials that includes predominately silica (e.g., quartz, quartz powder, cristobalite) as well as a resin binder (e.g., an unsaturated polyester). The incorporation of other materials, including, but not limited to, pigments, cement, or other additives does not remove the merchandise from the scope of the orders. However, the scope of the orders only includes products where the silica content is greater than any other single material, by actual weight. Quartz surface products are typically sold as rectangular slabs with a total surface area of approximately 45 to 60 square feet and a nominal thickness of one, two, or three centimeters. However, the scope of the orders includes surface products of all other sizes, thicknesses, and shapes. In addition to slabs, the scope of the orders includes, but is not limited to, other surfaces such as countertops, backsplashes, vanity tops, bar tops, work tops, tabletops, flooring, wall facing, shower surrounds, fire place surrounds, mantels, and tiles. Certain quartz surface products are covered by the orders whether polished or unpolished, cut or uncut, fabricated or not fabricated, cured or uncured, edged or not edged, finished or unfinished, thermoformed or not thermoformed, packaged or unpackaged, and regardless of the type of surface finish.

¹⁵ Quartz surface products may also generally be referred to as engineered stone or quartz, artificial stone or quartz, agglomerated stone or quartz, synthetic stone or quartz, processed stone or quartz, manufactured stone or quartz, and Bretonstone®.

In addition, quartz surface products are covered by the orders whether or not they are imported attached to, or in conjunction with, non-subject merchandise such as sinks, sink bowls, vanities, cabinets, and furniture. If quartz surface products are imported attached to, or in conjunction with, such non-subject merchandise, only the quartz surface product is covered by the scope.

Subject merchandise includes material matching the above description that has been finished, packaged, or otherwise fabricated in a third country, including by cutting, polishing, curing, edging, thermoforming, attaching to, or packaging with another product, or any other finishing, packaging, or fabrication that would not otherwise remove the merchandise from the scope of the orders if performed in the country of manufacture of the quartz surface products.

The scope of the orders does not cover quarried stone surface products, such as granite, marble, soapstone, or quartzite. Specifically excluded from the scope of the orders are crushed glass surface products. Crushed glass surface products must meet each of the following criteria to qualify for this exclusion: (1) The crushed glass content is greater than any other single material, by actual weight; (2) there are pieces of crushed glass visible across the surface of the product; (3) at least some of the individual pieces of crushed glass that are visible across the surface are larger than one centimeter wide as measured at their widest cross-section (glass pieces); and (4) the distance between any single glass piece and the closest separate glass piece does not exceed three inches.

The products subject to the scope are currently classified in the Harmonized Tariff Schedule of the United States (HTSUS) under the following subheading: 6810.99.0010. Subject merchandise may also enter under subheadings 6810.11.0010, 6810.11.0070, 6810.19.1200, 6810.19.1400, 6810.19.5000, 6810.91.0000, 6810.99.0080, 6815.99.4070, 2506.10.0010, 2506.10.0050, 2506.20.0010, 2506.20.0080, and 7016.90.10. The HTSUS subheadings set forth above are provided for convenience and U.S. Customs purposes only. The written description of the scope of the orders is dispositive.

Appendix II

Separate Rates Companies
Exporter | Producer
Non-individually examined exporters receiving separate rates | Producers supplying the non-individually-examined exporters receiving separate rates
Anhui Youlisi Quartz Building Materials Co., Ltd d.b.a Anhui Uviistone Quartz Building Material Co., Ltd | Anhui Youlisi Quartz Building Materials Co., Ltd d.b.a Anhui Uviistone Quartz Building Material Co., Ltd.
Ansen Investment And Development Co., Limited | Yunfu Honghai Stone Co., Ltd.
Ansen Investment And Development Co., Limited | Foshan Adamant Science & Technology Co., Ltd.
Ansen Investment And Development Co., Limited | Heshan City Nande Stone Co., Ltd.
Ansen Investment And Development Co., Limited | Dongguan Lafite Quartz-Stone Co., Ltd.
Ansen Investment And Development Co., Limited | Foshan Shunde O'Riordan Building Materials Manufacture Co., Ltd.
Aurea Stone Solutions Inc | Jiangxi Fasa Industrial Corporation Limited.
Best Bath & Kitchen Co., Limited | Fujian Province Kaisida Quartz Co., Ltd.
Best Cheer (Xiamen) Stone Works Co., Ltd | Best Cheer (Xiamen) Stone Works Co., Ltd.
Best Cheer (Xiamen) Stone Works Co., Ltd | Quanzhou Best Cheer Industry Co., Ltd.
Bestone High Tech Materials Co., Limited | Bestone High Tech Materials Co., Limited.
Bestone High Tech Materials Co., Limited | GuangDong Bosun Quartz Stone Co., Ltd.
Bestone High Tech Materials Co., Limited | Heshan Biyu Stone Co., Ltd.
Bestview (Fuzhou) Import & Export Co. Ltd | Dongguan Lafite Quartz Stone Co., Ltd.
Bestview (Fuzhou) Import & Export Co. Ltd | Nanan Fute Stone Co., Ltd.
Bestview (Fuzhou) Import & Export Co. Ltd | Foshan City Lewistone New Material Co., Limited.
Bestview (Fuzhou) Import & Export Co. Ltd | Yifeng Industries Corporation Co., Ltd.
Deyuan Panmin International Limited | Fujian Panmin Co., Ltd.
DH Group Co., Limited d.b.a. Xiamen DH Stone Co., Limited | DH Group Co., Limited.
DH Group Co., Limited d.b.a. Xiamen DH Stone Co., Limited | Nan An Zheng Shun Building Material Co., Ltd.
DH Group Co., Limited d.b.a. Xiamen DH Stone Co., Limited | Nan An Ju Jiu Building Materials Co., Ltd.
DH Group Co., Limited d.b.a. Xiamen DH Stone Co., Limited | Whitley New Material Co., Ltd.
East Asia Limited | Heshan City Nande Co Ltd.
East Asia Limited | Vemy Quartz Surface Co Ltd.
East Asia Limited | Lanling Jinzhao New Material Co Ltd.
East Asia Limited | Rong Hua Fu Quartz Co Ltd.
East Asia Limited | Runtai Stone Co Ltd.
Elite Industry International Group Limited | Heshan Biyu Stone Industry Co., Ltd.
Enming Art Stone Co., Ltd | Thinking Industries Corporation Limited.
Ersten Surfaces Limited | Huizhou Zhongbo Engineering Stone Co., Ltd.
Ersten Surfaces Limited | Guangdong Xiongjie Building Materials Co., LTD.
Farfield Trade Co., Ltd | Ronghuafu Yunfu Stone Co., Ltd.
Farfield Trade Co., Ltd | Yunfu Meiao Stone Co., Ltd.
Foshan Adamant Science & Technology Co., Ltd | Foshan Adamant Science & Technology Co., Ltd.
Foshan Biyu Stone Co., Limited | Foshan City Gaoming Biyustone Co., Ltd.
Foshan Biyu Stone Co., Limited | Foshan City Gaoming Biyu New Materials Co., Ltd.
Foshan Bluesea Quartz Stone Co., Ltd | Foshan Bluesea Quartz Stone Co., Ltd.
Heshan Nande Stone Industry Co., Ltd | Heshan Nande Stone Industry Co., Ltd.
Foshan Evergreen Import and Export Co., Ltd | Foshan Yixin Stone Co., Ltd.
Foshan Leda Building Materials Co., Ltd | Foshan Leda Building Materials Co., Ltd.
Foshan Leda Building Materials Co., Ltd | Hengyang Athena Quartz Stone Co., Ltd.
Foshan Monica Quartz Stone Co., Ltd | Foshan Monica Quartz Stone Co., Ltd.
Foshan Nanhai Cuipo Artificial Quartz Co., Ltd | Yunfu Stone Solutions Co., Ltd.
Foshan Nanhai Cuipo Artificial Quartz Co., Ltd | Qingyuan Yuefeng Decoration Materials Co., Ltd.
Foshan Nanhai Cuipo Artificial Quartz Co., Ltd | Yunfu Xiangyun Stone Co., Ltd.
Foshan Nanhai Cuipo Artificial Quartz Co., Ltd | Yunfu Ronghuafu Stone Co., Ltd.
Foshan Nanhai Cuipo Artificial Quartz Co., Ltd | Heshan City Nande Stone Co., Ltd.
Foshan Nanhai Cuipo Artificial Quartz Co., Ltd | Yunfu Wayon Stone Co., Ltd.
Foshan Opalus Stone Co., Ltd | Foshan Oubo Stone Co., Ltd.
Foshan Opaly Composite Materials Co., Ltd | Foshan Opaly Composite Materials Co., Ltd.
Foshan Rongguan Glass Material For Building Co., Ltd | Foshan Rongguan Glass Material For Building Co., Ltd.
Foshan Sanshui Queen Ceramic Inc | Foshan Sanshui Queen Ceramic Inc.
Foshan Shunde O'Riordan Building Materials Manufacture Co., Ltd | Foshan Shunde O'Riordan Building Materials Manufacture Co., Ltd.
Free Trans International Trading Limited | Foshan Xianghai Quartz Stone Co., Ltd.
Free Trans International Trading Limited | Foshan Tianci Quartz Stone Co., Ltd.
Fujian Nan'an Zuci Building Material Co., Ltd | Fujian Nan'an Zuci Building Material Co., Ltd.
Fujian Nan'an Zuci Building Material Co., Ltd | Shanghai Yijin Decorating Materials Co., Ltd.
Fujian Pengxiang Industrial Co., Ltd | Fujian Pengxiang Industrial Co., Ltd.
Fujian Putian Wangzhong New Type Building Materials Co., Ltd | Fujian Putian Wangzhong New Type Building Materials Co., Ltd.
Fujian Quanzhou Risheng Stone Co., Ltd | Fujian Quanzhou Risheng Stone Co., Ltd.
Fuzhou CBM Imp. And Exp. Co., Ltd | Fujian Nan'an Zuci Building Material Co., Ltd.
Fuzhou CBM Imp. And Exp. Co., Ltd | Dongguan Lafite Quartz-Stone Co., Ltd.
Golden Dragon Stone Co., Limited | Foshan Rongguan Glass Material For Building Co., Ltd.
Golden Dragon Stone Co., Limited | One Stone Quartz Co., Ltd.
Guangdong Bitto New Material Technologies Co., Ltd | Guangdong Bitto New Material Technologies Co., Ltd.
Guangdong Bosun Quartz Stone Co., Ltd | Guangdong Bosun Quartz Stone Co., Ltd.
Guangdong Overland Ceramics Co., Ltd | Guangdong Overland Ceramics Co., Ltd.
Guangdong Zhongxun New Material Co., Ltd | Guangdong Zhongxun New Material Co., Ltd.
Guangzhou Gelandy New Material Co., Ltd | Guangzhou Gelandy New Material Co., Ltd.
Guangzhou Wei Sheng Stone Building Materials Co., Ltd | Huizhou Zhongbo Engineering Stone Co., Ltd.
HCH Industrial Co Ltd d.b.a., Shenzhen Hengchang hao Industrial co., LTD | J W Quartz Co., Ltd.
HCH Industrial Co Ltd d.b.a., Shenzhen Hengchang hao Industrial co., LTD | He Shan Biyu Stone Co., LTD.
HCH Industrial Co Ltd d.b.a., Shenzhen Hengchang hao Industrial co., LTD | Dongguan kaisa stone Co., Ltd.
HCH Industrial Co Ltd d.b.a., Shenzhen Hengchang hao Industrial co., LTD | Vemy Quartz Surfaces Co., Ltd.
HCH Industrial Co Ltd d.b.a., Shenzhen Hengchang hao Industrial co., LTD | Heng Jia Stone.
HCH Industrial Co Ltd d.b.a., Shenzhen Hengchang hao Industrial co., LTD | Hubei Guantai Building Materials Co., Ltd.
HCH Industrial Co Ltd d.b.a., Shenzhen Hengchang hao Industrial co., LTD | Dongguan Huaxiang Stone Co., Ltd.
HCH Industrial Co Ltd d.b.a., Shenzhen Hengchang hao Industrial co., LTD | Guangzhou Hercules Quartz Stone Co., Ltd.
Heshan Biyu Stone Company | Heshan Biyu Stone Company.
Hirsch Glass (Dalian) Co., Ltd | Hirsch Glass (Dalian) Co., Ltd.
Hirsch Glass (Dalian) Co., Ltd | Foshan Yixin Stone Co., Ltd.
HongKong FS Development Limited | Yunfu Chuangyun New Meterail Co., Ltd.
HongKong FS Development Limited | RONGHUAFU Yunfu Stone Co., Ltd.
Huahe Stone (Yunfu) Co., Ltd | Huahe Stone (Yunfu) Co., Ltd.
Huidong Hexingtai Industry Co., Ltd | Huidong Hexingtai Industry Co., Ltd.
Intec Stone (Xiamen) Ltd | Intec Stone (Xiamen) Ltd.
Jiangxi Jingwei Stone Co., Ltd, d.b.a. Jiangxi Jingwei Stone Material Ltd | Jiangxi Jingwei Stone Co., Ltd, d.b.a. Jiangxi Jingwei Stone Material Ltd.
Kaistar (Xiamen) Co., Ltd | Fujian Best Matrix Quartz Co., Ltd.
Kaistar (Xiamen) Co., Ltd | Kinstone (Jieyang) Stone Co., Ltd.
Kaistar (Xiamen) Co., Ltd | Jieyang Bai Sheng Stone Limited.
KBI Construction Materials Ltd | YUNFU HongHai Stone Co., Ltd.
KBI Construction Materials Ltd | Guangdong Si Hui YuLong Stone Co., Ltd.
KBI Construction Materials Ltd | Foshan Vemy Building Material Co., Ltd.
KBI Construction Materials Ltd | Foshan Adamant Science & Technology Co., Ltd.
KBI Construction Materials Ltd | Yun Fu Xiang Yun Stone Co., Ltd.
Landmark Surface Company Limited | Guangdong Lai Ma Ke Environmental Building Materials Company Limited.
Landmark Surface Company Limited | Foshan Gaoming Dexing Quartz Stone Co., Ltd.
Lanling Jinzhao New Material Co., Ltd | Lanling Jinzhao New Material Co., Ltd.
Lindberg Stone Co., Limited | Dongguan City Lafite Quartz-Stone Co., Ltd.
Lixin Stone Co., Limited | Heshan City Nande Stone Co., Ltd.
Lixin Stone Co., Limited | Guangdong Dexing Quartz Stone Co., Ltd.
Lixin Stone Co., Limited | Guangzhou Hercules Quartz Stone Co., Ltd.
Lixin Stone Co., Limited | Foshan Adamant Science & Technology Co., Ltd.
Lixin Stone Co., Limited | Vemy Building Materials Co., Ltd.
Lixin Stone Co., Limited | Yunfu Honghai Stone Co., Ltd.
Lixin Stone Co., Limited | Dongguan Lefei New Stone Materials Co., Ltd.
Lixin Stone Co., Limited | Dongguan Lafite Quartz-stone Co., Ltd.
Lixin Stone Co., Limited | Huahe Stone (Yunfu) Co., Ltd.
Lixin Stone Co., Limited | Guangdong BOSUN Quartz Stone Co., Ltd.
Lixin Stone Co., Limited | Foshan Nanhai Yachang Building Materials Products Co., Ltd.
Loyalty Enterprise Development (Xinyang) Co., Ltd | Loyalty Enterprise Development (Xinyang) Co., Ltd.
Lulong Ruitong Trading Co., Ltd | Lulong Ruitong Trading Co., Ltd.
Macostone International Industry Co., Limited | Qingyuan Yuefeng Decoration Materials Co., Ltd.
Macostone International Industry Co., Limited | Lanling Modern Materials Co. Ltd.
Monica Surfaces Company Limited | Foshan Monica Quartz Stone Co., Ltd.
Nan'an Guangtaixiang Stone Co., Ltd | Nan'an Guangtaixiang Stone Co., Ltd.
Nanchang Montary Industrial Co., Ltd | Yunfu Kimria Quarts Stone Co., Ltd.
Nanchang Montary Industrial Co., Ltd | Yunfu Montary Stone Co., Ltd.
New Powerstone Industry Co., Limited | Qing Yuan Yuefeng Quartz Stone Co., Ltd.
New Powerstone Industry Co., Limited | Shandong Whitley New Materials Co., Ltd.
New Powerstone Industry Co., Limited | Foshan Devialef New Materials Co., Ltd.
New Powerstone Industry Co., Limited | Yunan Guanglai Stone Co., Ltd.
New Powerstone Industry Co., Limited | Nanan Guangtaixiang Stone Co., Ltd.
Newstar (Quanzhou) Industrial Co., Ltd | Quanzhou Yifeng Industries Corporation.
One Stone Quartz Co., Ltd | Wuzhou Yuanhong Building Materials Product Co., Ltd.
Penglai Huasheng Electronic Co., Ltd | Shandong Sunfull Industrial Co., Ltd.
Po Nice International Trading Limited | Xinyun Stone (Yunfu) Co., Ltd.
Po Nice International Trading Limited | Guangzhou Hercules Quartz Stone Co., Ltd.
Po Nice International Trading Limited | Ronghuafu Yunfu Stone Co., Ltd.
Po Nice International Trading Limited | Henan Namei Quartz Stone Technology Co., Ltd.
Po Nice International Trading Limited | Lanling Jinzhao New Material Co., Ltd.
Po Nice International Trading Limited | Foshan Opalus Quartz Stone Co., Ltd.
Po Nice International Trading Limited | Zhejiang Tiancheng Stone Enterprise Co., Ltd.
Po Nice International Trading Limited | Zhejiang Sanxing Cheng Yuan Energy Science and Technology Co., Ltd.
Po Nice International Trading Limited | LESSO Technology Industry (Chengdu) Co., Ltd.
Qinhuangdao Jingwei Stone Co., Ltd | Qinhuangdao Jingwei Stone Co., Ltd.
Quanzhou Franco Trade Co., Ltd | Fujian Pengxiang Industrial Co., Ltd.
Quanzhou Xinxing Stone Technics Co., Ltd | Quanzhou Xinxing Stone Technics Co., Ltd.
Quanzhou Yifeng Co., Ltd. (AKA Quanzhou Yifeng Industries Corporation) | Quanzhou Yifeng Co., Ltd. (AKA Quanzhou Yifeng Industries Corporation).
Ronghuafu Yunfu Stone Co., Ltd | Ronghuafu Yunfu Stone Co., Ltd.
Shanghai Rightime International Trading Co., Ltd | Fujian Quanzhou Risheng Stone Co., Ltd.
Shunsen Industries Corporation | Shunsen Industries Corporation.
Shunsen Industries Corporation | Thinking Industries Corporation.
Sinostone (Guangdong) Co., Ltd | Sinostone (Guangdong) Co., Ltd.
Stone Solutions Co., Ltd | Stone Solutions Co., Ltd.
Sunjoin Imp. & Exp. (Xiamen) Co., Limited | Henan Namei Quartz Stone Technology Co., Ltd.
Sunjoin Imp. & Exp. (Xiamen) Co., Limited | Thinking Industries Cooperation Limited.
Sunjoin Imp. & Exp. (Xiamen) Co., Limited | Nan'an Hanwa New Building Material Co. Ltd.
Sunjoin Imp. & Exp. (Xiamen) Co., Limited | Quanzhou Yifeng Industries Corporation.
Teltos Quartz Stone Co., Ltd | Teltos Quartz Stone Co., Ltd.
Vquartz Stone Limited | Vquartz Stone Limited.
Wanfeng Compound Stone Technology Co., Ltd | Wanfeng Compound Stone Technology Co., Ltd.
Wanfu Building Materials Products Co., Ltd. Nanan Fujian | Wanfu Building Materials Products Co., Ltd. Nanan Fujian.
Wuxi Yushea Furniture Co., Ltd | Yunfu Zhengfang Stone Company.
Xiamen Ally Group Co., Ltd | Thinking Industries Corporation Limited.
Xiamen Ally Group Co., Ltd | Nanan Fute Stone Co., Ltd.
Xiamen Avanti Stone Industrial Co., Ltd | Foshan Xinyixin Stone Industry Co., Ltd.
Xiamen Best Cheer Industry Co., Ltd | Xiamen Best Cheer Industry Co., Ltd.
Xiamen Best Cheer Industry Co., Ltd | Quanzhou Best Cheer Industry Co., Ltd.
Xiamen City Yadilong Imp & Exp. Co., Ltd | Quanzhou Yifeng Co., Ltd.
Xiamen City Yadilong Imp & Exp. Co., Ltd | Xiamen Orienti New Building Materials Ltd.
Xiamen Deyuan Panmin Trading Co., Ltd | Fujian Panmin Co., Ltd.
Xiamen Duojia Stone Material Co., Ltd. d.b.a. Xiamen Multi-Family Stone Co., Ltd | Foshan Yixin Stone Co., Ltd.
Xiamen Duojia Stone Material Co., Ltd. d.b.a. Xiamen Multi-Family Stone Co., Ltd | Foshan Blue Sea Quartz Stone Co., Ltd.
Xiamen Duojia Stone Material Co., Ltd. d.b.a. Xiamen Multi-Family Stone Co., Ltd | Foshan Ronguan Glass Material For Building Co., Ltd.
Xiamen Duojia Stone Material Co., Ltd. d.b.a. Xiamen Multi-Family Stone Co., Ltd | One Stone Quartz Co., Ltd.
Xiamen Duojia Stone Material Co., Ltd. d.b.a. Xiamen Multi-Family Stone Co., Ltd | Quanzhou Yifeng Co., Ltd.
Xiamen Duojia Stone Material Co., Ltd. d.b.a. Xiamen Multi-Family Stone Co., Ltd | Xiamen Orienti New Building Materials Ltd.
Xiamen Duojia Stone Material Co., Ltd. d.b.a. Xiamen Multi-Family Stone Co., Ltd | Fujian Panmin Xincai Ltd. Co.
Xiamen Duojia Stone Material Co., Ltd. d.b.a. Xiamen Multi-Family Stone Co., Ltd | Fujian Nan'an Zuci Building Material Co., Ltd.
Xiamen Enrich Co., Ltd | Dongguan Lafite Quartz-Stone Co., Ltd.
Xiamen Enrich Co., Ltd | Quanzhou Yifeng Industries Corporation.
Xiamen Fortua (Hong Kong) Industry Co., Limited | Xiamen Fortua Industry & Trade Co., Ltd.
Xiamen Further Star Imp and Exp Co., Ltd | Quanzhou Yifeng Industries Corporation.
Xiamen Gofor Stone Co., Ltd | Huayao Stone Slab Factory.
Xiamen Good Time Stone Co., Ltd | One Stone Quartz Co., Ltd.
Xiamen Good Time Stone Co., Ltd | Lanling Jinzhao New Material Co., Ltd.
Xiamen Good Time Stone Co., Ltd | Thinking Industries Corporation Limited.
Xiamen Good Time Stone Co., Ltd | Xiamen Deyuan Panmin Trading Co., Ltd.
Xiamen Good Time Stone Co., Ltd | Quanzhou Yifeng Industries Corporation.
Xiamen Got Cheer Trading Co., Ltd. d.b.a. Xiamen Got Cheer Co., Ltd | Quanzhou Best Cheer Industry Co., Ltd.
Xiamen Got Cheer Trading Co., Ltd. d.b.a. Xiamen Got Cheer Co., Ltd | Xiamen Best Cheer Industry Co., Ltd.
Xiamen Got Cheer Trading Co., Ltd. d.b.a. Xiamen Got Cheer Co., Ltd | Best Cheer (Xiamen) Stone Works Co., Ltd.
Xiamen Honglei Imp. &. Exp. Co., Ltd. d.b.a. Honglei (Xiamen) Stone Co., Ltd | Xiamen Honglei Imp. &. Exp. Co., Ltd. d.b.a. Honglei (Xiamen) Stone Co., Ltd.
Xiamen Injoy Import & Export Co., Ltd | Thinking Industries Corporation.
Xiamen Interock Stone Co., Ltd | Loyalty Enterprise Development (XinYang) Co., Ltd.
Xiamen Interock Stone Co., Ltd | Fujian Nan'an Zuci Building Material Co. Ltd.
Xiamen Jianming Rising Import & Export Co., Ltd | Thinking Industries Corporation.
Xiamen Jianming Rising Import & Export Co., Ltd | Nan'an Hanhua New Building Materials Co., Ltd.
Xiamen Luck Stone Co., Ltd | Foshan Opaly Composites Co., Ltd.
Xiamen Luck Stone Co., Ltd | Foshan Yixin Stone Co., Ltd.
Xiamen Luck Stone Co., Ltd | Heshan Biyu Stone Co., Ltd.
Xiamen Luck Stone Co., Ltd | Shandong Whitley New Materials Co., Ltd.
Xiamen Luck Stone Co., Ltd | Vemy Building Materials Co., Ltd.
Xiamen Maoshuang Stone Industry Co., Ltd | Fujian Panmin Quartz Co., Ltd.
Xiamen Northern Mining Stone Co., Ltd | Fujian Nanan Xietai Stone Co., Ltd.
Xiamen Northern Mining Stone Co., Ltd | Fujian Nanan Mao Tong Yuan Stone Co., Ltd.
Xiamen Northern Mining Stone Co., Ltd | Fujian Nanan Run Ze Stone Co., Ltd.
Xiamen Northern Mining Stone Co., Ltd | Shandong Horizon Group Co., Ltd.
Xiamen Northern Mining Stone Co., Ltd | Lanling Jinzhao New Material Co., Ltd.
Xiamen Northern Mining Stone Co., Ltd | Fujian Panmin Quartz Co., Ltd.
Xiamen Ogrand Stone Imp. & Exp. Co., Ltd | Quanzhou Yifeng Co., Ltd Nanan Branch.
Xiamen Oriental Stone Products Co., Ltd | Nanan City Shijing Town Stone Products Factory.
Xiamen Oriental Stone Products Co., Ltd | Fujian Nanan Lianhui Stone Products Co., Ltd.
Xiamen Orienti New Building Materials Ltd | Xiamen Orienti New Building Materials Ltd.
Xiamen Qinhui Import & Export Co., Ltd | Zhangzhou Qinhui Quartz Stone Co., Ltd.
Xiamen Qinhui Import & Export Co., Ltd | Fujian Quanzhou Qinhui Stone Co., Ltd.
Xiamen Realho Stone Co., Ltd | Thinking Industries Corporation.
Xiamen Realho Stone Co., Ltd | Shandong Whitley New Materials Co., Ltd.
Xiamen Realho Stone Co., Ltd | Quanzhou Yifeng Co., Ltd.
Xiamen Realho Stone Co., Ltd | Nan'an Fute Building Material Co., Ltd.
Xiamen Shihui Stone Product Co., Ltd | Guangdong Baoxin New Stone Products Co., Ltd.
Xiamen Shihui Stone Product Co., Ltd | Yunfu Honghai Investment Co., Ltd.
Xiamen Sinocau Import & Export Co., Ltd | Jinjiang Huabao Stone Co., Ltd.
Xiamen Smarter Stone Co., Ltd | Heshan Nande Quartz Stone Co., Ltd.
Xiamen Smarter Stone Co., Ltd | Fujian Quanzhou Runze Stone Co., Ltd.
Xiamen Smarter Stone Co., Ltd | Hongsheng Stone Co., Ltd.
Xiamen Stone Forest Co., Ltd | Quanzhou Yifeng Industries Corporation.
Xiamen Stone Forest Co., Ltd | Foshan Vemy Stone Building Material Co., Ltd.
Xiamen Stone Forest Co., Ltd | Foshan Rongguan Glass Material For Building Co., Ltd.
Xiamen Stone Forest Co., Ltd | Qingyuan Yuefeng Decoration Materials Co., Ltd.
Xiamen Stone Forest Co., Ltd | Lanling Jinzhao New Material Co., Ltd.
Xiamen Stone Forest Co., Ltd | Foshan Yixin Stone Co., Ltd.
Xiamen Stone Forest Co., Ltd | Xiamen Orienti New Building Materials Ltd.
Xiamen Stone Forest Co., Ltd | Dongguan Lafite Quartz-Stone Co., Ltd.
Xiamen Stone Forest Co., Ltd | Dongguan City Hongke Quartz Stone Co., Ltd.
Xiamen Stone Harbour Co., Ltd | Fujian PengXiang Industrial Co., Ltd.
Xiamen Stone Harbour Co., Ltd | Zhangzhou QinHui Quartz Co., Ltd.
Xiamen Stonelink Imp & Exp Co., Ltd | Fujian PengXiang Industrial Co., Ltd.
Xiamen Stonelink Imp & Exp Co., Ltd | Heshan Biyu Stone Co., Ltd.
Xiamen Stonevic Co., Ltd | Heshan Biyu Stone Co., Ltd.
Xiamen Stonevic Co., Ltd | Quanzhou Yifeng Industries Co., Ltd.
Xiamen Sun Young Corporation | Yifeng Industries Corporation.
Xiamen Sun Young Corporation | Heshan City Nande Stone Co., Ltd.
Xiamen Sun Young Corporation | Benyi New Materials Co., Ltd.
Xiamen Sun Young Corporation | Fujian Quanzhou Risheng Stone Co., Ltd.
Xiamen Sun Young Corporation | Nanan Chunjia Stone Co., Ltd.
Xiamen Terry Stone Co., Ltd | Heshan Biyu Stone Co., Ltd.
Xiamen Touch Stone Co., Ltd | One Stone Quartz Co., Ltd.
Xiamen Vatro Stone Imp. & Exp. Co., Ltd | Xiamen Vatro Stone Imp. & Exp. Co., Ltd.
Xiamen Vatro Stone Imp. & Exp. Co., Ltd | Shandong Whitley New Materials Co., Ltd.
Xiamen Vesen Imp. & Exp. Trade Co., Ltd | Nanan Xingli Stone Co, Ltd.
Xiamen Wanfu Trade Co., Ltd | Xiamen Wanfu Trade Co., Ltd.
Xiamen Wanfu Trade Co., Ltd | Thinking Industries Corporation.
Xiamen Wanfu Trade Co., Ltd | Yifeng Industries Corporation.
Xiamen Wanli Stone Decoration & Design Co., Ltd | Xiamen Wanlistone Stock Co., Ltd.
Xiamen Wanli Stone Decoration & Design Co., Ltd | Quanzhou Yifeng Co., Ltd.
Xiamen Wanli Stone Decoration & Design Co., Ltd | Nan'an Fengsheng Stone Co., Ltd.
Xiamen Wanli Stone Decoration & Design Co., Ltd | Thinking Industries Corporation Limited.
Xiamen Wanli Stone Decoration & Design Co., Ltd | One Stone Quartz Co., Ltd.
Xiamen Wanli Stone Decoration & Design Co., Ltd | Taking Luck (Xiamen) Granite & Marble Co., Ltd.
Xiamen Wanlistone Stock Co., Ltd | Xiamen Wanlistone Stock Co., Ltd.
Xiamen Winson Import and Export Co., Ltd | Xiamen Oulandi New Building Materail Co., Ltd.
Xiamen Yadonglong Imp & Exp. Co., Ltd | Quanzhou Yifeng Co., Ltd.
Xiamen Yadonglong Imp & Exp. Co., Ltd | Xiamen Orienti New Building Materials Ltd.
Xiamen Yadonglong Imp & Exp. Co., Ltd | Xinmingdu Building Materials (Xiamen) Co., Ltd.
Xiamen Yalitong Stone Industrial Co., Ltd | Fujian Nanan Xudong Building Materials Co., Ltd.
Xiamen Yalitong Stone Industrial Co., Ltd | Zhongci Wanjia Decoration Materials Co., Ltd.
Xiamen Yalitong Stone Industrial Co., Ltd | Quanzhou Yifeng Co., Ltd.
Xiamen Yeyang Import & Export Co., Ltd. (AKA Xiamen Yeyang Imp&Exp Co., Ltd.) | Fujian Nanan Yuanhong Construction Materails Co., Ltd.
Xiamen Yiqing Imp. & Exp. Co., Ltd | Fujian Nanan Yuanhong Construction Materails Co., Ltd.
Xiamen Zhongguanshi Stone Industry Co., Limited | Yunan Guanglai Stone co., Ltd.
Xiamen Zhongguanshi Stone Industry Co., Limited | Foshan Devialef New Materials Co., Ltd.
Xiamen Zhongguanshi Stone Industry Co., Limited | Nan'an Guang Tai Xiang Stone Co., Ltd.
Xiamen Zhongguanshi Stone Industry Co., Limited | Wanfeng Compound Stone Technology.
Xiamen Zhongguanshi Stone Industry Co., Limited | Foshan Xinghe Quartz Stone Co., Ltd.
Xinyun Stone (Yunfu) Co., Ltd | Xinyun Stone (Yunfu) Co., Ltd.
Yekalon Industry Inc | Foshan Xinyixin Stone Company Limited.
Yunfu Andi Stone Co., Ltd | Yunfu Andi Stone Co., Ltd.
Yunfu Chuangyun New Meterail Co., Ltd | Yunfu Chuangyun New Meterail Co., Ltd.
Yunfu Dong Shan Stone Material Co., Ltd | Yunfu Dong Shan Stone Material Co., Ltd.
Yunfu Honghai Co., Ltd | Yunfu Honghai Co., Ltd.
Yunfu Jiuru Stone Ltd | Yunfu Jiuru Stone Ltd.
Yunfu Meiao Stone Co., Ltd | Yunfu Meiao Stone Co., Ltd.
Yunfu Wayon Stone Co., Ltd | Yunfu Wayon Stone Co., Ltd.
Yunfu Wayon Stone Co., Ltd | Guangdong Wayon Industrial Co., Ltd.
Yunfu Weibao Stone Co., Ltd | Yunfu Weibao Stone Co., Ltd.
Yunfu Weibao Stone Co., Ltd | Guangdong Wayon Industrial Co., Ltd.
Yunfu Wintop Stone Co., Ltd | Yunfu Wintop Stone Co., Ltd.
Yunfu Wintop Stone Co., Ltd | Guangdong Bosun Quartz Stone Co., Ltd.
Yunfu Wintop Stone Co., Ltd | Yunfu Runtai Stone Co., Ltd.
Yunfu Wintop Stone Co., Ltd | RongHuaFu Yunfu Stone Co., Ltd.
Zhangzhou OCA Furniture Co., Ltd | Fujian Panmin Co., Ltd.
Zhangzhou OCA Furniture Co., Ltd | Wanfu Building Materials Products Co., Ltd.
Zhaoqing Aibo New Material Technology Co., Ltd | Zhaoqing Aibo New Material Technology Co., Ltd.
Zhaoqing Aibo New Material Technology Co., Ltd | Shanghai Meiyang Stone Co., Ltd.
Zhaoqing Maxstone Com., Ltd | Zhaoqing Maxstone Com., Ltd.
Zhaoqing Uni Marble Co., Ltd | Vemy Quartz Co., Ltd.
Zhaoqing Uni Marble Co., Ltd | Guangdong Bosun Quartz Stone Co., Ltd.

[FR Doc. 2019-14865 Filed 7-10-19; 8:45 am]

BILLING CODE 3510-DS-P